DEPARTMENT OF AGRICULTURE

Grain Inspection, Packers and Stockyards Administration

Proposed Posting, Posting, and Deposting of Stockyards

AGENCY: Grain Inspection, Packers and Stockyards Administration, USDA.

ACTION: Notice and request for comments.

SUMMARY: The Grain Inspection, Packers and Stockyards Administration (GIPSA) is taking several actions to post and depost stockyards under the Packers and Stockyards Act (P&S Act). Specifically, we are proposing that 17 stockyards now operating subject to the P&S Act be posted. We are also posting eight stockyards that were identified previously as operating subject to the P&S Act and deposting one stockyard that no longer meets the definition of a stockyard.

DATES: For the proposed posting of stockyards, we will consider comments that we receive on or before August 11, 2015.

ADDRESSES: We invite you to submit comments on this notice. You may submit comments by any of the following methods:

• Internet: Go to http://www.regulations.gov. Follow the on-line instructions for submitting comments.

• Fax: (202) 690-2173.

• Mail, hand delivery, or courier: R. Dexter Thomas, GIPSA, USDA, 1400 Independence Avenue SW., Room 2530-S, Washington, DC 20250-3604.

Instructions: All comments should refer to the date and page number of this issue of the Federal Register. The comments and other documents relating to this action will be available for public inspection during regular business hours.

FOR FURTHER INFORMATION CONTACT: Catherine M. Grasso, Program Analyst, Litigation and Economic Analysis Division at (202) 720-7201 or Catherine.m.grasso@usda.gov.

SUPPLEMENTARY INFORMATION: GIPSA administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: “. . . any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following 17 stockyards meet the definition of a stockyard, and that we propose to designate these stockyards as posted stockyards.

Proposed facility No. | Stockyard name and location
AR-184 | Mid-State Stockyards, LLC, Damascus, Arkansas.
AZ-119 | Arizona Livestock Auction, Buckeye, Arizona.
GA-236 | Trion Livestock Auction, LLC, Trion Georgia.
GA-237 | Deer Run Auction Co., Adel, Georgia.
KY-187 | Steele Hollow Stockyard, LLC, Rockholds, Kentucky.
KY-188 | Franklin Livestock Market, Inc., Franklin, Kentucky.
MS-179 | Integrity Livestock Auction, LLC, Brookhaven, Mississippi.
MS-180 | Ramsey Livestock Sales, Inc., Vicksburg, Mississippi.
MO-289 | Archangel Outreach Ministries, Inc., d/b/a CRS & Highlandville Sales, Highlandville, Missouri.
NC-180 | Stephens Auction Co., Lumberton, North Carolina.
NC-181 | Flippin Chicken Auction & Sales, Beulaville, North Carolina.
OK-218 | JC Stockyards Auction, LLC, Meeker, Oklahoma.
TN-212 | WJ Auction Co., LLC, Telford, Tennessee.
TN-213 | Saddle Brook Stables, Jamestown, Tennessee.
TN-214 | Wiser Farms/Triple “M” Farms, Shelbyville, Tennessee.
TX-358 | Paris Livestock Auction, LLC, Paris, Texas.
UT-119 | Anderson Livestock Auction Co., Willard, Utah.

We are also notifying the public that the stockyards listed in the following table meet the P&S Act's definition of a stockyard and that we have posted the stockyards. On July 15, 2014, we published a notice in the Federal Register (79 FR 41255-41256) of our proposal to post these eight stockyards. Since we received no comments to our proposal, we assigned the stockyards a facility number and notified the owner of the stockyard facilities. Posting notices were sent to the owner of the stockyard to display in public areas of the stockyard. The table below reflects the date of posting for each stockyard.

Facility No. | Stockyard name and location | Date of posting
AL-198 | Central Auction Barn, Electic, Alabama | 10/22/2014
AR-183 | Mollie Wright—Wright's Small Animal Auction, Benton, Arkansas | 10/06/2014
AZ-118 | Sonoran Livestock Marketing, LLC, Douglas, Arizona | 10/17/2014
KY-186 | Ricky M. Kepley, dba Franklin Livestock Market, Franklin, Kentucky | 09/30/2014
TN-208 | Treadway Livestock Exchange, Thorn Hill, Tennessee | 10/17/2014
TN-209 | Darrells Auction and Livestock, Powder Springs, Tennessee | 09/30/2014
TN-210 | Rising Star Ranch, LLC, Shelbyville, Tennessee | 10/06/2014
TN-211 | Circle R Auction, Ethridge, Tennessee | 10/07/2014

Finally, we are notifying the public that the following stockyard no longer meets the definition of a stockyard and it is being deposted. We depost stockyards when the facility can no longer be used as a stockyard. The reasons a facility can no longer be used as a stockyard may include the following: (1) The market agency has moved and the posted facility is abandoned; (2) the facility has been torn down or otherwise destroyed, such as by fire; (3) the facility is dilapidated beyond repair; or (4) the facility has been converted and its function has changed.

| Stockyard name and location | Date posted
AR-128 | Searcy County Livestock Market, Marshall, Arkansas | 02/18/1959

Authority: 7 U.S.C. 202.

Susan B. Keith,
Acting Administrator, Grain Inspection, Packers and Stockyards Administration.

[FR Doc. 2015-18251 Filed 7-24-15; 8:45 am]

BILLING CODE 3410-KD-P